DEPARTMENT OF DEFENSE

Department of the Air Force

[Docket ID USAF-2014-0013]

Proposed Collection; Comment Request

AGENCY: Department of Defense/Department of the Air Force/Headquarters, Air Force Reserve Officer Training Corps (AFROTC).

ACTION: Notice.

SUMMARY: In compliance with Section 3506(c)(2)(A) of the Paperwork Reduction Act of 1995, the Department of the Air Force announces reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to AFROTC/HQ 551 E. Maxwell Blvd. Maxwell AFB, AL 36112 or call 334-953-0266.

SUPPLEMENTARY INFORMATION:

Title; Associated Form; and OMB Number: Application for AFROTC Membership, OMB Number 0701-0105.

Needs and Uses: Air Force ROTC uses the AFROTC Form 20 to collect data from applicants to the Air Force ROTC program. This collected data is used to determine whether or not an applicant is eligible to join the Air Force ROTC program and, if accepted, the enrollment status of the applicant within the program. Upon acceptance into the program, the collected information is used to establish personal records for Air Force ROTC cadets. Eligibility for membership cannot be determined if this information is not collected.

Affected Public: Individuals or households.

Annual Burden Hours: 4,000.

Number of Respondents: 12,000.

Responses per Respondent: 1.

Average Burden per Response: 20 minutes.

Frequency: On occasion.

Respondents are college students desiring to join the Air Force ROTC program. AFROTC Form 20 provides vital information needed by detachment personnel to determine their eligibility to participate in that program.

Dated: May 21, 2014.
Aaron Siegel,
Alternate OSD Federal Register Liaison Officer, Department of Defense.

[FR Doc. 2014-12211 Filed 5-27-14; 8:45 am]

BILLING CODE 5001-06-P